DEPARTMENT OF COMMERCE

National Oceanic and Atmospheric Administration

15 CFR Part 950

[Docket No. 150202106-5999-03]

RIN 0648-BE86

Schedule of Fees for Access to NOAA Environmental Data, Information, and Related Products and Services; Correction

AGENCY: National Environmental Satellite, Data and Information Service (NESDIS), National Oceanic and Atmospheric Administration (NOAA), Department of Commerce.

ACTION: Final rule; correcting amendment.

SUMMARY: This action corrects the NESDIS FY 2016 schedule of fees for the sale of its data, information, and related products and services to users. NESDIS is authorized under the United States Code to assess fees, up to fair market value, for access to environmental data, information, and products derived from, collected, and/or archived by NOAA. This action corrects one user fee, titled the Department of Commerce Certification. In the October 22, 2015, final rule, the fee was incorrectly listed as $16.00. The correct user fee should be $116.00.

DATES: Effective January 11, 2016.

FOR FURTHER INFORMATION CONTACT: James Lewis (301) 713-7073.

SUPPLEMENTARY INFORMATION:

Background

NESDIS operates NOAA's National Center for Environmental Information (NCEI). Through NCEI, NESDIS provides and ensures timely access to global environmental data from satellites and other sources, provides information services, and develops science products. NESDIS maintains some 1,300 databases containing over 2,400 environmental variables at NCEI and seven World Data Centers. These centers respond to over 2,000,000 requests for these data and products annually from over 70 countries. This collection of environmental data and products is growing rapidly, both in size and sophistication, and as a result the associated costs have increased.

Users have the ability to access the data offline, online and through the NESDIS e-Commerce System (NeS) online store. Our ability to provide data, information, products and services depends on user fees.

New Fee Schedule

In an October 22, 2015, final rule (80 FR 63914), NESDIS established a new schedule of fees for the sale of its data, information, and related products and services to users (“October 2015 Fee Schedule Rule”). NESDIS revised the fee schedule that has been in effect since 2013 to ensure that the fees accurately reflect the costs of providing access to the environmental data, information, and related products and services. The new fee schedule lists both the current fee charged for each item and the new fee to be charged to users that took effect beginning November 23, 2015. The schedule applies to the listed services provided by NESDIS on or after this date, except for products and services covered by a subscription agreement in effect as of this date that extends beyond this date. In those cases, the increased fees will apply upon renewal of the subscription agreement or at the earliest amendment date provided by the agreement.

NESDIS will continue to review the user fees periodically, and will revise such fees as necessary. Any future changes in the user fees and their effective date will be announced through notice in the Federal Register.

Need for Correction

The October 2015 Fee Schedule Rule contains one fee—which appears in a table in Appendix A to Part 950—that was reported incorrectly. The Department of Commerce Certification Fee was listed as $16.00. The last rule had the rate incorrectly listed. The correct fee for this service is $116.00. We now are setting out the entire table with the corrected fee to provide clarity for the public.

Classification

The correction this action makes is minor and merely updates a typographical error within the original final rule. This rule has been determined to be not significant for purposes of E.O. 12866.

The provisions of the Administrative Procedure Act (5 U.S.C. 553) requiring notice of proposed rulemaking and the opportunity for public comment are inapplicable because this rule falls within the public property exception of subparagraph (a)(2) of section 553, as it relates only to the assessment of fees, as authorized by 15 U.S.C. 1534, that accurately reflect the costs of providing access to publicly available environmental data, information, and related products. Further, no other law requires that a notice of proposed rulemaking and an opportunity for public comment be given for this rule. Because a notice of proposed rulemaking and an opportunity for public comment are not required to be given for this rule under 5 U.S.C. 553 or by any other law, the requirements of the Regulatory Flexibility Act (5 U.S.C. 601 et seq.) are not applicable. Accordingly, no Regulatory Flexibility Analysis is required and none has been prepared.

List of Subjects in 15 CFR Part 950

Organization and functions (Government agencies).

Dated: December 17, 2015.
Cherish Johnson,
Chief, Financial Officer (CFO/CAO).

For the reasons set forth above, 15 CFR part 950 is corrected by making the following correcting amendment:

PART 950—ENVIRONMENTAL DATA AND INFORMATION

1. The authority citation for part 950 continues to read as follows:

Authority: (5 U.S.C. 552, 553). Reorganization Plan No. 4 of 1970.

2. Appendix A to part 950 is revised to read as follows:

Appendix A to Part 950—Schedule of User Fees for Access to NOAA Environmental Data

Name of product/Data/Publication/Information/Service | Current fee | New fee
NOAA National Center for Environmental Information:
Department of Commerce Certification | $86.00 | $116.00
General Certification | 72.00 | 92.00
Paper Copy | 2.00 | 3.00
Data Poster | 18.00 | 18.00
Shipping Service | 4.00 | 8.00
Rush Order Fee | 60.00 | 60.00
Super Rush Order Fee | 100.00 | 100.00
Foreign Handling Fee | 67.00 | 43.00
NEXRAD Doppler Radar Color Prints | 14.00 | 21.00
Paper Copy from Electronic Media | 6.00 | 8.00
Offline In-Situ Digital Data | 124.00 | 175.00
Microfilm Copy (roll to paper) per frame from existing film | 14.00 | 20.00
Satellite Image Product | 73.00 | 92.00
Offline Satellite, Radar, and Model Digital Data (average unit size is 1 terabyte) | 615.00 | 753.00
Conventional CD-ROM/DVD | 60.00 | 110.00
Specialized CD-ROM/DVD | 131.00 | 208.00
CD-ROM/DVD Copy, Offline | 30.00 | 43.00
CD-ROM/DVD Copy, Online Store | 15.00 | 16.00
Facsimile Service | 78.00 | 89.00
Order Handling | 8.00 | 11.00
Non-Digital Order Consultation | 6.00 | 10.00
Digital Order Consultation | 18.00 | 28.00
Non-Serial Publications | 27.00 | 32.00
Non-Standard Data; Select/Copy to CD, DVD or Electronic Transfer, Specialized, Offline | 59.00 | 77.00
Digital and Non-Digital Off-the-Shelf Products, Online | 9.00 | 13.00
Digital and Non-Digital Off-the-Shelf Products, Offline | 11.00 | 17.00
Order Consultation Fee | 2.00 | 4.00
Handling and Packing Fee | 8.00 | 12.00
World Ocean Database-World Ocean Atlas 2009 DVDs | 15.00 | (*)
Mini Poster | 1.00 | 2.00
Icosahedron Globe | 1.00 | 1.00
Convert Data to Standard Image | 6.00 | 8.00
Single Orbit OLS & Subset | 18.00 | 19.00
Single Orbit OLS & Subset, Additional Orbits | 5.00 | 6.00
Geolocated Data | 47.00 | 50.00
Subset of Pre-existing Geolocated Data | 28.00 | 32.00
Global Nighttime Lights Annual Composite from One Satellite | 74,032.00 | 74,924.00
Most Recent DMSP-OLS Thermal Band/Cloud Cover Mosaics from Multiple Satellites | 259.00 | (*)
Daily or Nightly Global Mosaics (visible & thermal band, single spectral band or environmental data) | 241.00 | 332.00
Global Nighttime Lights Lunar Cycle | 6,531.00 | 8,259.00
Radiance Calibrated Global DMSP-OLS Nighttime Lights Annual Composite from One Satellite | 82,075.00 | (*)
Research Data Series CD-ROM/DVD | 25.00 | 25.00
Custom Analog Plotter Prints | 60.00 | (*)
NOS Bathymetric Maps and Miscellaneous Archived Publication Inventory | 7.00 | 8.00
Global Annual Composite of Nighttime Lights in Monthly Increments From One Satellite | 8,305.00 | 10,794.00
High Definition Geomagnetic Model | 20,060.00 | 20,262.00
Provision of Global Nighttime VIIRS day/night band data in geotiff format |  | 55,727.00
Provision of Global Nighttime VIIRS day/night band data in HDF5 Format |  | 27,888.00
Provision of regional data from the VIIRS instrument on a daily basis |  | 14,306.00
* Reflects a product no longer offered.

[FR Doc. 2015-32958 Filed 1-8-16; 8:45 a.m.]

BILLING CODE 3510-22-P